INTERNATIONAL TRADE COMMISSION

[Investigation Nos. 731-TA-1455-1457 (Preliminary)]

Polyethylene Terephthalate (PET) Sheet From Korea, Mexico, and Oman

Determinations

On the basis of the record ¹ developed in the subject investigations, the United States International Trade Commission (“Commission”) determines, pursuant to the Tariff Act of 1930 (“the Act”), that there is a reasonable indication that an industry in the United States is materially injured by reason of imports of Polyethylene Terephthalate (PET) sheet from Oman and Korea, provided for in subheading 3920.62.00 of the Harmonized Tariff Schedule of the United States, that are alleged to be sold in the United States at less than fair value (“LTFV”).² The Commission further determines that imports of PET sheet from Mexico that are alleged to be sold in the United States at LTFV are negligible pursuant to section 771(24) of the Act, and its antidumping duty investigation with regard to PET sheet from Mexico is thereby terminated pursuant to section 703(a)(1) of the Act.³

¹ The record is defined in sec. 207.2(f) of the Commission's Rules of Practice and Procedure (19 CFR 207.2(f)).

² Polyethylene Terephthalate Sheet From the Republic of Korea, Mexico, and the Sultanate of Oman: Initiation of Less-Than-Fair-Value Investigations, 84 FR 44854, August 27, 2019.

³ Commissioner Randolph J. Stayin voted in the affirmative with respect to all investigations.

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under section 733(b) of the Act, or, if the preliminary determinations are negative, upon notice of affirmative final determinations in those investigations under section 735(a) of the Act. Parties that filed entries of appearance in the preliminary phase of the investigations need not enter a separate appearance for the final phase of the investigations. Industrial users, and, if the merchandise under investigation is sold at the retail level, representative consumer organizations have the right to appear as parties in Commission antidumping investigations. The Secretary will prepare a public service list containing the names and addresses of all persons, or their representatives, who are parties to the investigations.

Background

On July 9, 2019, Advanced Extrusion, Inc., Rogers, Minnesota; Ex-Tech Plastics, Inc., Richmond, Illinois; and Multi-Plastics Extrusions, Inc., Hazleton, Pennsylvania, filed petitions with the Commission and Commerce, alleging that an industry in the United States is materially injured or threatened with material injury by reason of LTFV imports of PET sheet from Korea, Mexico, and Oman. Accordingly, effective July 9, 2019, the Commission, pursuant to section 733(a) of the Act (19 U.S.C. 1673b(a)), instituted antidumping duty investigation Nos. 731-TA-1455-1457 (Preliminary).

Notice of the institution of the Commission's investigations and of a public conference to be held in connection therewith was given by posting copies of the notice in the Office of the Secretary, U.S. International Trade Commission, Washington, DC, and by publishing the notice in the Federal Register of July 15, 2019 (84 FR 33785). The conference was held in Washington, DC, on July 30, 2019, and all persons who requested the opportunity were permitted to appear in person or by counsel. A revised schedule was published on August 6, 2019 (84 FR 38296).

The Commission made these determinations pursuant to section 733(a) of the Act (19 U.S.C. 1673b(a)). It completed and filed its determinations in these investigations on September 13, 2019. The views of the Commission are contained in USITC Publication 4970 (September 2019), entitled Polyethylene Terephthalate (PET) sheet from Korea, Mexico, and Oman Investigation Nos. 731-TA-1455-1457 (Preliminary).

By order of the Commission.
Issued: September 13, 2019.
Lisa Barton,
Secretary to the Commission.

[FR Doc. 2019-20190 Filed 9-17-19; 8:45 am]

BILLING CODE 7020-02-P